DEPARTMENT OF THE TREASURY

Internal Revenue Service

[REG-251520-96]

Proposed Collection; Comment Request for Regulation Project; Correction

AGENCY: Internal Revenue Service (IRS), Treasury.

ACTION: Correction to notice and request for comments.

SUMMARY: This document contains a correction to a notice and request for comments, which was published in the Federal Register on Tuesday, September 14, 2004 (69 FR 55492). This notice relates to a comment request on proposed collection for regulation project.

FOR FURTHER INFORMATION CONTACT: Allan Hopkins, (202) 622-6665 (not a toll-free number).

SUPPLEMENTARY INFORMATION:

Background

The notice and request for comments that is the subject of this correction is required by the Paperwork Reduction Act of 1995, Public Law 104-13 (44 U.S.C. 3506(c)(2)(A)).

Need for Correction

As published, the comment request for regulation project contains errors which may prove to be misleading and are need of clarification.

Correction of Publication

Accordingly, the publication of the comment request for regulation project, which were the subject of FR Doc. 04-20618, are corrected as follows:

1. On page 55492, column 3, under the caption “SUMMARY:”, lines 13 and 14, the language, “existing notice of proposed rulemaking and temporary regulation, REG-251520-” is corrected to read “existing final regulation, REG-251520-”.

2. On page 55492, column 3, under the caption “SUMMARY:”, lines 17 thru 18, the language, “Programs Redeterminations (Sections 1.861-18 and 1.861-18(k)).” is corrected to read “Programs and Redeterminations (Section 1.861-18).”

3. On page 55493, column 1, under the caption ‘SUPPLEMENTARY INFORMATION:’, the language,

“Estimated Number of Respondents: 1.

Estimated Time per Respondent: 1 hour.

Estimated Total Annual Burden Hours: 1.”

is corrected to read “The burden for the collection of information in this regulation is reflected in the burden of Form 3115.”

Cynthia E. Grigsby,
Acting Chief, Publications and Regulations Branch, Legal Processing Division, Associate Chief Counsel (Procedure and Administration).

[FR Doc. 04-22859 Filed 10-8-04; 8:45 am]

BILLING CODE 4830-01-P